DEPARTMENT OF VETERANS AFFAIRS

Veterans' Disability Benefits Commission; Notice of Meeting

The Department of Veterans Affairs (VA) gives notice under Public Law 92-463 (Federal Advisory Committee Act) that the Veterans' Disability Benefits Commission has scheduled a meeting for June 21-22, 2006, in Room 340, Cannon House Office Building, U.S. House of Representatives, in Washington, DC. The meeting will begin each day at 9 a.m. On June 21 the meeting will end at 4:30 p.m., and on June 22 the meeting will end at 3 p.m. The meeting is open to the public.

The purpose of the Commission is to carry out a study of the benefits under the laws of the United States that are provided to compensate and assist veterans and their survivors for disabilities and deaths attributable to military service.

The agenda for the two-day session will include an overview of the Department of Veterans Affairs National Compensation and Pension Exam Program located in Nashville, Tennessee, with additional briefings by QTC, Veterans Benefits Administration and Veterans Health Administration to address the process, quality, timeliness and cost of compensation and pension examinations. There will be a summary report of the Commission's site visit to California, and the Government Accountability Office (GAO) will present its findings on a study conducted to assess VA's Individual Unemployability program. The agenda will include updates on the progress of the research and studies being conducted by the Institute of Medicine (IOM) and the Center for Naval Analyses (CNA).

Interested persons may attend and present oral statements to the Commission. Oral presentations will be limited to five minutes or less, depending on the number of participants. Interested parties may provided written comments for review by the Commission prior to the meeting, by e-mail to veterans@vetscommission.intranets.com or by mail to Mr. Ray Wilburn, Executive Director, Veterans' Disability Benefits Commission, 1101 Pennsylvania Avenue, NW., 5th Floor, Washington, DC 20004.

Dated: May 26, 2006.
By Director of the Secretary.
E. Philip Riggin,
Committee Management Officer.

[FR Doc. 06-5070 Filed 6-1-06; 8:45 am]

BILLING CODE 8320-01-M